FEDERAL COMMUNICATIONS COMMISSION

47 CFR Part 97

[WT Docket No. 09-209; FCC 09-102]

Amateur Service Rules

AGENCY: Federal Communications Commission.

ACTION: Proposed rule.

SUMMARY: This document proposes to amend the amateur radio service rules to clarify certain rules and codify existing procedures governing the amateur service vanity call sign system, and to revise certain rules applicable to amateur service club stations.

DATES: Submit comments on or before March 26, 2010 and reply comments are due April 12, 2010.

ADDRESSES: You may submit comments, identified by WT Docket No. 09-209; FCC 09-102, by any of the following methods:

• Federal eRulemaking Portal: http://www.regulations.gov. Follow the instructions for submitting comments.

• Federal Communications Commission's Web site: http://www.fcc.gov/cgb/ecfs/. Follow the instructions for submitting comments.

• People With Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: William T. Cross, Public Safety and Critical Infrastructure Division, Wireless Telecommunications Bureau, (202) 418-0680, TTY (202) 418-7233.

SUPPLEMENTARY INFORMATION: This is a summary of the Federal Communications Commission's Notice of Proposed Rulemaking and Order (NPRM), WT Docket No. 09-209, FCC 09-102, adopted November 23, 2009, and released November 24, 2009. The full text of this document is available for inspection and copying during normal business hours in the FCC Reference Center, 445 12th Street, SW., Room CY-A257, Washington, DC 20554, or by downloading the text from the Commission's Web site at http://www.fcc.gov/Daily_Releases/Daily_Digest/2009/dd091125.html. The complete text also may be purchased from the Commission's duplicating contractor, Best Copy and Printing, Inc., Portals II, 445 12th Street, Suite CY-B402, Washington, DC 20554. Alternative formats are available for people with disabilities (Braille, large print, electronic files, audio format), by sending an e-mail to FCC504@fcc.gov or calling the Consumer and Government Affairs Bureau at (202) 418-0530 (voice), (202) 418-0432 (TTY).

1. In this document, the Wireless Telecommunications Bureau (WTB) of the Federal Communications Commission (Commission) amends the part 97 Amateur Radio Service rules to clarify certain rules and codifies existing procedures governing the amateur service vanity call sign system. The Commission also revises certain rules applicable to amateur service club stations. The Commission found that certain provisions in the rules applicable to the vanity call sign system should be codified in our rules, and others added, so that the vanity call sign system will be fair, equitable, and transparent to all amateur service licensees. Specifically, the Commission proposes in the NPRM to amend the amateur service's vanity call sign rules to: clarify the process by which such call signs become available for reassignment after the license expires or is canceled; clarify the exceptions to the rule that a call sign shown on a canceled license is unavailable to the vanity call sign system for two years; require that applications requesting a change in trustee include documentation signed by an officer of the club when the application is submitted to the Club Station Call Sign Administrator; and, to limit club stations to holding one call sign.

I. Procedural Matters

A. Ex Parte Rules—Permit-but-Disclose Proceeding

2. This is a permit-but-disclose notice and comment rulemaking proceeding. Ex parte presentations are permitted, except during the Sunshine Agenda period, provided they are disclosed as provided in the Commission's rules.

B. Comment Dates

3. Pursuant to sections 1.415 and 1.419 of the Commission's rules, interested parties may file comments on or before March 26, 2010, and reply comments are due April 12, 2010.

4. Commenters may file comments electronically using the Commission's Electronic Comment Filing System (ECFS), the Federal Government's eRulemaking Portal, or by filing paper copies. Commenters filing through the ECFS can be sent as an electronic file via the Internet to http://www.fcc.gov/e-file/ecfs.html. If multiple docket or rulemaking numbers appear in the caption of this proceeding, filers must transmit one electronic copy for each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form.” Commenters will receive a sample form and directions in reply. Commenters filing through the Federal eRulemaking Portal http://www.regulations.gov, should follow the instructions provided on the Web site for submitting comments.

5. Commenters who chose to file paper comments must file an original and four copies of each comment. If more than one docket or rulemaking number appears in the caption of this proceeding, filers must submit two additional copies for each additional docket or rulemaking number. All filings must be sent to the Commission's Secretary, Office of the Secretary, Federal Communications Commission, 445 12th Street, SW., Room TW-A325, Washington, DC 20554.

6. Commenters may send filings by hand or messenger delivery, by commercial overnight courier, or by first-class or overnight U.S. Postal Service mail. The Commission's contractor will receive hand-delivered or messenger-delivered paper filings for the Commission's Secretary at 236 Massachusetts Avenue, NE., Suite 110, Washington, DC 20002. The filing hours at this location are 8 a.m. to 7 p.m. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to 445 12th Street, SW., Washington, DC 20554.

C. Paperwork Reduction Act

7. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

II. Initial Regulatory Flexibility Analysis

8. The Regulatory Flexibility Act requires an initial regulatory flexibility analysis to be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

9. In this NPRM, we propose to amend the amateur service rules applicable to the vanity call sign system and club station licensing. Because “small entities,” as defined in the RFA, are not persons eligible for licensing in the amateur service, these proposed rules do not apply to “small entities.” Rather, the rules apply exclusively to individuals who currently are amateur service licensees and who are requesting a specific call sign be assigned to their station. Moreover, club stations are not authorized to transmit any communications in which the station licensee or control operator has a pecuniary interest, and thus do not qualify as a “small entity.” Therefore, we certify that the proposals in this NPRM, if adopted, will not have a significant economic impact on a substantial number of small entities.

III. Ordering Clauses

10. Pursuant to sections 4(i), 4(j), and 303(r) of the Communications Act of 1934, as amended, 47 U.S.C. 154(i), 154(j), and 303(r), notice is hereby given of the proposed amendment to part 97 of the Commission's rules, 47 CFR part 97, as described above, and that comment is sought on this proposal to amend part 97 of the Commission's rules as set forth below.

11. Pursuant to § 1.407 of the Commission's rules, 47 CFR 1.407, the Petition for Rule Making filed by Barbara J. Levow on May 20, 2008 is denied.

12. Pursuant to § 1.407 of the Commission's rules, 47 CFR 1.407, the Petition to Change part 97.19(c)(2) of the Amateur Radio Service Rules filed by Steven Bryant on June 29, 2009 is denied.

13. The Commission's Consumer and Governmental Affairs Bureau, Reference Information Center, shall send a copy of this NPRM, including the Initial Regulatory Flexibility Certification, to the Chief Counsel for Advocacy of the Small Business Administration.

List of Subjects in 47 CFR Part 97

Radio.

Marlene H. Dortch,
Secretary,
Federal Communications Commission.

Proposed Rule Changes

For the reasons discussed in the preamble, the Federal Communications Commission proposes to amend 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.3 is amended by redesignating paragraphs (a)(27) through (a)(49) as paragraphs (a)(28) through (a)(50), and adding a new paragraph (a)(27) to read as follows:

§ 97.3 Definitions.

(a) * * *

(27) In-law. A parent or stepparent of a licensee's spouse; a licensee's spouse's sibling; the spouse of a licensee's spouse's sibling; or the spouse of a licensee's sibling, child, or stepchild.

* * * * *

3. Section 97.5 is amended by revising paragraph (b)(2) to read as follows:

§ 97.5 Station license required.

* * * * *

(b) * * *

(2) A club station license grant. A club station license grant may be held only by the person who is the license trustee designated by an officer of the club. The trustee must be a person who holds an operator/primary station license grant. The club must be composed of at least four persons and must have a name, a document of organization, management, and a primary purpose devoted to amateur service activities consistent with this part. After [date reserved], no additional club station license grant will be made to a club whose trustee already holds a club station license grant for that club.

* * * * *

4. Section 97.19 is amended by revising paragraphs (c)(2), (c)(3), and (d) introductory paragraph to read as follows:

§ 97.19 Application for a vanity call sign.

* * * * *

(c) * * *

(2) A call sign shown on a surrendered, revoked, set aside, canceled (except for license that are canceled pursuant to § 97.21(d), or voided license grant is not available to the vanity call sign system for 2 years following the date such action is taken. (The availability of a call sign shown on a license canceled pursuant to § 97.21(d) is governed by paragraph (c)(3) of this section.)

(i) This 2-year period does not apply to any license grant pursuant to paragraph (c)(3)(i), (ii), or (iii) of this section that is surrendered, canceled, revoked, voided, or set aside because the grantee acknowledged or the Commission determined that the grantee was not eligible for the exception.

(ii) An applicant to whose operator/primary station license grant, or club station license grant for which the applicant is the trustee, the call sign was previously assigned is exempt from this 2-year period.

(3) The call sign shown on a license canceled pursuant to § 97.21(d) is not available to the vanity call sign system for 2 years following the person's death, or for 2 years following the expiration of the license grant, whichever is sooner; except that, when the licensee's death occurs prior to the license expiration date, but the Commission does not cancel the license until on or after the date 30 days before the second anniversary of the licensee's death, the call sign is not available to the vanity call sign system for 30 days following the date such action is taken. Notwithstanding the foregoing, the call sign shown on a license canceled pursuant to § 97.21(d) is available immediately. This provision does not apply to an applicant:

(i) To whose operator/primary station license grant, or club station license grant for which the applicant is the trustee, the call sign was previously assigned; or

(ii) Who is the spouse, child, grandchild, stepchild, parent, grandparent, step-parent, brother, sister, stepbrother, stepsister, aunt, uncle, niece, nephew, or in-law of the person now deceased or of any other deceased former holder of the call sign; or

(iii) Who is a club station license trustee acting with a written statement of consent signed by either the licensee ante mortem but who is now deceased, or by at least one relative as listed above in (ii) of the person now deceased, provided that the deceased licensee was a member of the club.

(d) Except for an applicant whose station had been formerly assigned the call sign requested, the vanity call sign requested by an applicant must be selected from the group of call signs corresponding to the same or lower class of operator license held by the applicant as designated in the sequential call sign system.

* * * * *

5. Section 97.21 is amended by revising the section heading and paragraph (a)(1) and adding new paragraph (d) to read as follows:

§ 97.21 Application for a modified, renewed, or cancelled license grant.

(a) * * *

(1) Must apply to the FCC for a modification of the license grant as necessary to show the correct mailing address, licensee name, club name, license trustee name, or license custodian name in accordance with § 1.913 of this chapter. For a club, military recreation or RACES station license grant, the application must be presented in document form to a Club Station Call Sign Administrator (CSCSA) who must submit the information thereon to the FCC in an electronic batch file. The CSCSA must retain the collected information for at least 15 months and make it available to the FCC upon request. An application to modify a club station license grant to change the license trustee name must be submitted to a CSCSA by an officer of the club. A CSCSA shall not file with the Commission any application to modify a club station license grant, except to change a club station license trustee, submitted by a person who is not the trustee of record.

* * * * *

(d) A person may request cancellation of an operator/primary station license grant on account of the licensee's death by submitting a signed request that includes a death certificate, obituary, or Social Security Death Index (SSDI) data clearly showing that the person named in the operator/primary station license grant has died. Such requests may be submitted as pleadings associated with the license. See § 1.45 of this chapter. In addition, the Commission may cancel an operator/primary station license grant if it becomes aware of the grantee's death through other means. For purposes of this section, when SSDI data is submitted, it must be based on the Social Security Administration Death Master File current at the time of the request.

[FR Doc. 2010-1262 Filed 1-22-10; 8:45 am]

BILLING CODE 6712-01-P